ENVIRONMENTAL PROTECTION AGENCY

[FRL-9900-13-ORD; Docket ID No. EPA-HQ-ORD-2011-0391]

Draft Toxicological Review of Benzo[a]pyrene: In Support of the Summary Information in the Integrated Risk Information System (IRIS)

AGENCY: Environmental Protection Agency (EPA).

ACTION: Notice of public comment period and public meeting.

SUMMARY: EPA is announcing a 60-day public comment period for the external review draft human health assessment titled “Toxicological Review of benzo[a]pyrene: In Support of Summary Information on the Integrated Risk Information System (IRIS)” (EPA/635/R-13/138) and the draft peer review charge questions. The draft assessment was prepared by the National Center for Environmental Assessment (NCEA) within the EPA Office of Research and Development (ORD). EPA is releasing this draft assessment and peer review charge questions for the purpose of public comment. This draft assessment is not final as described in EPA's information quality guidelines, and it does not represent and should not be construed to represent Agency policy or views. The draft assessment will also be discussed at the first bi-monthly IRIS public meeting scheduled for October 23-24, 2013.

DATES: The public comment period begins, August 21, 2013, and ends October 21, 2013. Technical comments should be in writing and must be received by EPA by October 21, 2013.

Discussion of the draft toxicological review of benzo[a]pyrene will be included on the agenda of the bi-monthly IRIS public meeting to be held on October 23-24, 2013, at EPA offices in Arlington, Virginia. Information on this meeting, including meeting location, time, and registration and participation procedures are available at the IRIS Web site (http://www.epa.gov/iris/publicmeeting/).

FOR FURTHER INFORMATION CONTACT: For general information about IRIS public meetings, please contact Christine Ross, IRIS Staff, Environmental Protection Agency, National Center for Environmental Assessment (NCEA), Mail Code 8601P; telephone: 703-347-8592; facsimile: 703-347-8689; or email:ross.christine@epa.gov. For information regarding the subject matter of a specific meeting, please contact the EPA representative identified on the IRIS public meeting Web site (http://www.epa.gov/iris/publicmeeting/).

ADDRESSES: The draft “Toxicological Review of benzo[a]pyrene: In Support of Summary Information on the Integrated Risk Information System (IRIS)” is available primarily via the Internet on the NCEA home page under the Recent Additions and Publications menus at http://www.epa.gov/ncea. A limited number of paper copies are available from the Information Management Team, NCEA; telephone: 703-347-8561; facsimile: 703-347-8691. If you request a paper copy, please provide your name, mailing address, and the document title.

Discussion of the draft toxicological review of benzo[a]pyrene will be included on the agenda of the bi-monthly IRIS public meeting to be held on October 23-24, 2013, at EPA offices in Arlington, Virginia. Detailed information regarding meeting location, time, and registration and participation procedures will be available at the IRIS Web site (http://www.epa.gov/iris/publicmeeting/).

SUPPLEMENTARY INFORMATION:

I. Information About IRIS

EPA's IRIS Program is a human health assessment program that evaluates quantitative and qualitative risk information on effects that may result from exposure to chemical substances found in the environment. Through the IRIS Program, EPA provides the highest quality science-based human health assessments to support the Agency's regulatory activities and decisions to protect public health. The IRIS database contains information for more than 500 chemical substances that can be used to support the first two steps (hazard identification and dose-response evaluation) of the human health risk assessment process. When supported by available data, IRIS provides health effects information and toxicity values for health effects (including cancer and effects other than cancer). Government and others combine IRIS toxicity values with exposure information to characterize public health risks of chemical substances; this information is then used to support risk management decisions designed to protect public health.

II. Bi-Monthly Public Meeting

In addition to the 60-day public comment period announced in this notice, the draft assessment will be discussed at the first bi-monthly IRIS public meeting scheduled for October 23-24, 2013. Information on this meeting, including meeting location, time, and registration and participation procedures, will be available at the IRIS Web site (http://www.epa.gov/iris/publicmeeting/). The purpose of the IRIS public meeting is to allow all interested parties to present scientific and technical comments on the draft IRIS health assessment and charge questions to EPA and other interested parties attending the meeting. The public comments provided in response to this notice, and at the IRIS public meeting, will be considered by the Agency prior to submitting the draft assessment to the SAB for peer review.

III. Peer Review

After consideration of public comments by EPA, the draft assessment will be sent to the EPA's Science Advisory Board (SAB) Chemical Assessment Advisory Committee (CAAC) for peer review. The EPA SAB is a body established under the Federal Advisory Committee Act with a broad mandate to advise the Agency on scientific matters. The public comment period and bi-monthly public meeting announced in this notice are separate processes from the SAB/CAAC peer review. The SAB will schedule one or more public peer review meetings, which will be announced in a separate Federal Register Notice at a later date.

IV. How To Submit Technical Comments to the Docket at http://www.regulations.gov

Submit your comments, identified by Docket ID No. EPA-HQ-ORD-2011-0391 by one of the following methods:

• http://www.regulations.gov: Follow the on-line instructions for submitting comments

• Email: Docket_ORD@epa.gov

• Fax: 202-566-9744.

• Mail: Office of Environmental Information (OEI) Docket (Mail Code: 28221T), U.S. Environmental Protection Agency, 1200 Pennsylvania Ave. NW., Washington, DC 20460. The phone number is 202-566-1752.

• Hand Delivery: The OEI Docket is located in the EPA Headquarters Docket Center, EPA West Building, Room 3334, 1301 Constitution Ave. NW., Washington, DC. The EPA Docket Center's Public Reading Room is open from 8:30 a.m. to 4:30 p.m., Monday through Friday, excluding legal holidays. The telephone number for the Public Reading Room is 202-566-1744. Deliveries are only accepted during the docket's normal hours of operation, and special arrangements should be made for deliveries of boxed information. If you provide comments by mail or hand delivery, please submit one unbound original with pages numbered consecutively, and three copies of the comments. For attachments, provide an index, number pages consecutively with the comments, and submit an unbound original and three copies.

Instructions for submitting comments to the EPA Docket: Direct your comments to Docket ID No. EPA-HQ-ORD-2011-0391. Please ensure that your comments are submitted within the specified comment period. Comments received after the closing date will be marked “late,” and may only be considered if time permits. It is EPA's policy to include all comments it receives in the public docket without change and to make the comments available online at http://www.regulations.gov, including any personal information provided, unless a comment includes information claimed to be confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the OEI Docket in the EPA Headquarters Docket Center.

FOR FURTHER INFORMATION CONTACT: For information on the federal docket, contact the Office of Environmental Information Docket; telephone: 202-566-1752; facsimile: 202-566-9744; or email: Docket_ORD@epa.gov.

For information on the bi-monthly IRIS public meeting please contact Christine Ross, IRIS Staff, National Center for Environmental Assessment, (8601P), U.S. EPA, 1200 Pennsylvania Avenue NW., Washington, DC 20460; telephone: 703-347-8592; facsimile: 703-347-8689; or email: ross.christine@epa.gov.

If you have questions about the document, contact Kathleen Newhouse, National Center for Environmental Assessment (NCEA); telephone: 707-347-8641; facsimile: 703-347-8689; or email: FRN_Questions@epa.gov.

Dated: August 15, 2013.
Abdel M. Kadry,
Acting Director, National Center for Environmental Assessment.

[FR Doc. 2013-19875 Filed 8-20-13; 8:45 am]

BILLING CODE 6560-50-P